DEPARTMENT OF EDUCATION

[Docket No.: ED-2024-SCC-0039]

Agency Information Collection Activities; Comment Request; U.S. Department of Education Pre-Authorized Debit Account Brochure and Application

In notice document 2024-04450 beginning on page 15559 in the issue of Monday, March 4, 2024, make the following correction:

On page 15559, in the third column, under DATES, in the second line “APRIL 29, 2024” should read “May 3, 2024”.

[FR Doc. C1-2024-04450 Filed 3-15-24; 8:45 am]

BILLING CODE 1505-01-D